DEPARTMENT OF THE INTERIOR

Bureau of Land Management

[NM091-9941-EK-HE931]

Extension of Approved Information Collection, OMB Approval Number 1004-0180

AGENCY: Bureau of Land Management, Interior.

ACTION: Notice and request for comments.

SUMMARY: In accordance with the Paperwork Reduction Act of 1995, the Bureau of Land Management (BLM) announces its intention to request extension of an existing approval to collect certain information from owners and operators of helium-bearing natural gas wells and transmission lines pertaining to natural gas analyses. BLM uses this information to evaluate the helium resources of the United States (BLM Form 3100-12).

DATES: You must submit your comments to BLM at the appropriate address below on or before March 6, 2001. BLM will not necessarily consider any comments received after the above date.

ADDRESSES: Comments may be mailed to: Regulatory Affairs Group (630), Bureau of Land Management, 1849 C Street NW, Room 401LS, Washington, DC 20240.

Comments may be sent via Internet to: WOComment@blm.gov. Please include “ATTN: 1004-0180” and your name and return address in your Internet message.

Comments may be hand-delivered to the Bureau of Land Management, Administrative Record, Room 401, 1620 L Street, NW, Washington, DC.

Comments will be available for public review at the L Street address during regular business hours (7:45 a.m. to 4:15 p.m.), Monday through Friday.

FOR FURTHER INFORMATION CONTACT: You may contact Brent Gage on (806) 324-2659 (Commercial or FTS). Persons who use a telecommunications device for the deaf (TDD) may call the Federal Information Relay Service at 1-800-877-8330, 24 hours a day, seven days a week, to contact Mr. Gage.

SUPPLEMENTARY INFORMATION: 5 CFR 1320.12(a) requires BLM to provide 60-day notice in the Federal Register concerning a collection of information contained in BLM Form 3100-12 to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq.

The Gas Well Data-Survey of Helium-Bearing Natural Gas, BLM Form 3100-12, provides for the gas sampling and analysis program used to locate helium occurrences in natural gases. BLM carries out this program under 74 Stat. 920, Public Law 104-273, Helium Privatization Act of 1996. The knowledge of helium occurrences is part of the Government's conservation program. BLM uses this information to evaluate the extent of any helium resources existing in the natural gas.

Without this information, BLM would not possess knowledge of the nature, location, and extent of domestic helium resources. The location and development of helium reserves and helium conservation and production are necessary to assure a supply of helium is available to the Federal Government.

Based on BLM's experience administering the activities described above, we estimate the public reporting burden for the information collected to average 15 minutes per response. The respondents include owners and operators of helium-bearing natural gas wells and transmission lines. The frequency of response is annual. The estimated number of responses per year is 200. The estimated total annual burden is 50 hours. BLM specifically requests your comments on its estimate of the amount of time that it takes to prepare a response.

BLM will summarize all responses to this notice and include them in the request for Office of Management and Budget approval. All comments will also become a matter of public record.

Dated: January 2, 2001.
Michael Schwartz,
BLM Information Collection Clearance Officer.

[FR Doc. 01-373 Filed 1-4-01; 8:45 am]

BILLING CODE 4310-84-M